SECURITIES AND EXCHANGE COMMISSION

Submission for OMB Review; Comment Request

Upon written request, copies available from: Securities and Exchange Commission, Office of Filings and Information Services, Washington, DC 20549.

Extension: Rule 17a-7, SEC File No. 270-147, OMB Control No. 3235-0131.

Notice is hereby given that pursuant to the Paperwork Reduction Act of 1995 (44 U.S.C. 3501 et seq.), the Securities and Exchange Commission (“Commission”) has submitted to the Office of Management and Budget (“OMB”) a request for extension of the previously approved collection of information discussed below.

Rule 17a-7 [17 CFR. 240.17a-7] under the Securities Exchange Act of 1934 requires non-resident brokers or dealers registered or applying for registration pursuant to Section 15 of the Exchange Act to maintain—in the United States—complete and current copies of books and records required to be maintained under any rule adopted under the Securities Exchange Act of 1934. Alternatively, Rule 17a-7 provides that the non-resident broker or dealer may sign a written undertaking to furnish the requisite books and records to the Commission upon demand.

There are approximately 65 non-resident brokers and dealers. Based on the Commission's experience in this area, it is estimated that the average amount of time necessary to preserve the books and records required by Rule 17a-7 is one hour per year. Accordingly, the total burden is 65 hours per year. With an average cost per hour of approximately $55.00, the total cost of compliance for the respondents is $3,575 per year.

There are no individual record retention periods in Rule 17a-7. Compliance with the rule is mandatory. However, non-resident brokers and dealers may opt to provide the records upon request of the Commission rather than store it in the United States. An agency may not conduct or sponsor and a person is not required to respond to a collection of information unless it displays a currently valid control number.

Written comments regarding the above information should be directed to the following persons: (a) Desk Officer for the Securities and Exchange Commission by sending an e-mail to: David_Rostker@omb.eop.gov, and (b) R. Corey Booth, Director/Chief Information Officer, Office of Information Technology, Securities and Exchange Commission, 450 Fifth Street, NW., Washington, DC 20549. Comments must be submitted to the Office of Management and Budget within 30 days of this notice.

Dated: September 13, 2004.
Margaret H. McFarland,
Deputy Secretary.

[FR Doc. E4-2260 Filed 9-20-04; 8:45 am]

BILLING CODE 8010-01-P